DEPARTMENT OF COMMERCE

National Oceanic and Atmospheric Administration

RIN 0648-XE57

Fisheries of the Exclusive Economic Zone Off Alaska; Groundfish Fisheries in the Bering Sea, Aleutian Islands and Gulf of Alaska

AGENCY: National Marine Fisheries Service (NMFS), National Oceanic and Atmospheric Administration (NOAA), Commerce.

ACTION: Notice; intent to prepare an environmental impact statement; request for written comments.

SUMMARY: NMFS, in consultation with the North Pacific Fishery Management Council (Council), announces its intent to prepare a Supplemental Environmental Impact Statement (SEIS) on revisions to Steller sea lion protection measures, in accordance with the National Environmental Policy Act of 1969 (NEPA). The proposed action is to revise the Steller sea lion protection measures for the Bering Sea and Aleutian Islands (BSAI) and the Gulf of Alaska (GOA) groundfish fisheries. The scope of the SEIS will be to determine the impacts to the human environment resulting from modifications to the existing protection measures. NMFS will accept written comments from the public to determine the issues of concern and the appropriate range of management alternatives to be addressed in the SEIS.

DATES: Written comments must be received by April 21, 2008.

ADDRESSES: Written comments on issues and alternatives for the SEIS should be sent to Sue Salveson, Assistant Regional Administrator, Sustainable Fisheries Division, Alaska Region, NMFS, Attn: Ellen Sebastian. Comments may be submitted by

• E-mail: SSL-SEISM@noaa.gov. Include in the subject line the following document identifier: SSL SEIS. E-mail comments, with or without attachments, are limited to 5 megabytes;

• Mail: P.O. Box 21668, Juneau, AK 99802;

• Hand Delivery to the Federal Building: 709 West 9th Street, Room 420A, Juneau, AK; or

• Fax: 907-586-7557.

FOR FURTHER INFORMATION CONTACT: Gretchen Harrington, (907) 586-7228 or gretchen.harrington@noaa.gov.

SUPPLEMENTARY INFORMATION: Under the Magnuson-Stevens Fishery Conservation and Management Act (Magnuson-Stevens Act), the United States has exclusive fishery management authority over all living marine resources found within the exclusive economic zone (EEZ). The management of these marine resources, with the exception of certain marine mammals and birds, is vested in the Secretary of Commerce (Secretary). The Council has the responsibility to prepare fishery management plans for those marine resources off Alaska requiring conservation and management. Management of the Federal groundfish fishery located off Alaska in the EEZ is carried out under the Fishery Management Plan for Groundfish of the Bering Sea and Aleutian Islands Management Area and the Fishery Management Plan for Groundfish of the Gulf of Alaska (FMPs). These FMPs, their amendments, and implementing regulations (found at 50 CFR part 679) are developed in accordance with the requirements of the Magnuson-Stevens Act and other applicable Federal laws and executive orders, notably NEPA and the Endangered Species Act (ESA).

The Council is considering revising the Steller sea lion protection measures for the groundfish fisheries based on new information available regarding the potential interactions between Steller sea lions and groundfish fisheries. NMFS and the Council have determined that the preparation of an SEIS may be required for this action because revisions to the groundfish fishery regulations to protect Steller sea lions may result in significant impacts on the human environment not previously analyzed in the Final SEIS for Steller Sea Lion Protection Measures (November 2001). Thus, NMFS, in consultation with the Council, is initiating scoping for an SEIS in the event that an SEIS is needed.

NMFS is seeking information from the public through the SEIS scoping process on the range of alternatives to be analyzed; and on the environmental, social, and economic issues to be considered in the analysis. Written comments generated during this scoping process will be shared with the Council and incorporated into the SEIS.

The SEIS would be integrated with the related ESA documents that have been or are being prepared to address Steller sea lion issues to avoid redundancy, while providing a decision-making document that analyzes the potential impacts of the proposed action and its alternatives on the human environment. Related ESA documents (biological assessments, biological opinions, and a draft recovery plan) and background information are available on the NMFS Alaska Region website at http://stellersealions.noaa.gov/.

The SEIS on revisions to Steller sea lion protection measures will supplement the Steller Sea Lion Protection Measures Final SEIS (November 2001), which is available on the NMFS Alaska Region website at http://www.fakr.noaa.gov/sustainablefisheries/seis/sslpm/default.htm.

The preferred alternative for Steller sea lions protection measures in the 2001 SEIS was the area and fishery specific approach, which allowed for different protection measures specific to the type of fishery in the Aleutian Islands, Bering Sea, and Gulf of Alaska. NMFS implemented the current protection measures in 2003 (68 FR 204, January 2, 2003). This approach was a precautionary response to concerns about Steller sea lions and was intended to reduce the economic impact of the protection measures on participants in the groundfish fisheries. The protection measures in the preferred alternative were determined to neither jeopardize the continued existence of Steller sea lions nor adversely modify their designated critical habitat. Further, this approach met the Magnuson-Stevens Act mandates, especially with regards to safety at sea, minimizing bycatch, minimizing impacts to fishing communities, and attaining optimum yield.

Steller sea lion protection measures for the groundfish fishery currently include (1) global harvest controls for Steller sea lion prey species (pollock, Pacific cod, and Atka mackerel); (2) spatial harvest controls specific to prey species, gear type, and proximity to rookery, haulout, or forage areas to limit prey species removal in an area; (3) temporal harvest controls for pollock, Pacific cod, and Atka mackerel, including seasonal apportionments to limit prey species removal during certain times of the year; and (4) a vessel monitoring system requirement for all vessels (except vessels using jig gear) fishing for pollock, Pacific cod, or Atka mackerel.

Proposed Action

The proposed action is to revise the Steller sea lion protection measures for the Bering Sea and Aleutian Islands and Gulf of Alaska groundfish fisheries based on new information available regarding the potential interactions between Steller sea lions and groundfish fisheries. The purpose of the proposed action is to maintain adequate protection for Steller sea lions to avoid jeopardy of extinction and destruction or adverse modification of designated critical habitat under the ESA, while minimizing to the extent practicable the impacts to the fishing industry and coastal communities that result from complying with the protection measures. The revisions are necessary to ensure the best scientific information available is used to: (1) ensure the fisheries are not likely to result in jeopardy of extinction and destruction or adverse modification of designated critical habitat; (2) alleviate any unnecessary restrictions for the fleet to improve efficiency and ensure economic viability for the industry; and (3) minimize potential adverse economic impacts on coastal communities.

Alternatives

The SEIS will evaluate a range of alternative management measures for the Bering Sea and Aleutian Islands and Gulf of Alaska groundfish fisheries. The Council's Steller Sea Lion Mitigation Committee (SSLMC) is reviewing the latest scientific information regarding Steller sea lions and potential groundfish fisheries interactions and developing alternative Steller sea lion protection measures. The SSLMC has collected proposals from the public for changes to the Steller sea lion protection measures and is scheduled to evaluate and prioritize these proposals for Council consideration in June 2008. After Council consideration, the Council may recommend management measures to the Secretary for evaluation and implementation. Information regarding the SSLMC and the proposal evaluation process is available from the Alaska Region website at http://www.fakr.noaa.gov/sustainablefisheries/sslmc/default.htm.

Alternatives may include those identified here, and those developed through public scoping, Council, and SSLMC processes. Possible alternatives could include one, or a combination of, the following:

1.No action - retain the current suite of Steller sea lion protection measures as are currently in place for fishing year 2008.

2.Change the current spatial management of the Atka mackerel, pollock, or Pacific cod fisheries in the GOA and/or BSAI by opening or closing areas near Steller sea lion rookeries, haulouts, and/or foraging areas.

3.Change the current temporal management of harvests in the GOA and/or BSAI Atka mackerel, pollock, and/or Pacific cod fisheries.

4.Change other management measures that currently apply to the GOA and/or BSAI Atka mackerel, pollock, and/or Pacific cod fisheries, such as changes to gear restrictions or the Aleutian Islands platoon management system for Atka mackerel.

Preliminary Identification of Issues

A principal objective of the scoping and public input process is to identify potentially significant impacts to the human environment that should be analyzed in the SEIS. The analysis will evaluate the effects of the alternatives for all resources, species, and issues that may directly or indirectly interact with Steller sea lions and the groundfish fisheries within the action area.

The primary issues to be analyzed are the effects of the proposed action and its alternatives on Steller sea lions and their designated critical habitat. Additional impacts to the following components of the biological and physical environment may be evaluated: (1) other species listed under the ESA and their critical habitat, and other species protected under the Marine Mammal Protection Act; (2) target and non-target fish stocks, including forage fish and prohibited species; (3) seabirds; and (4) the ecosystem.

Social and economic impacts also would be considered in terms of the effects that changes in the Steller sea lion protection measures would have on the following groups of individuals: (1) those who participate in harvesting the groundfish resources; (2) those who process and market groundfish and groundfish products; (3) those who consume groundfish products; (4) those who rely on living marine resources in the management area, particularly Steller sea lions, for subsistence needs; (5) those who benefit from non-consumptive uses of Steller sea lions and other living marine resources; and (6) fishing communities.

Public Involvement

Scoping is an early and open process for determining the scope of issues to be addressed in an Environmental Impact Statement and for identifying the significant issues related to the proposed action. A principal objective of the scoping and public involvement process is to identify a reasonable range of management alternatives that, with adequate analysis, will delineate critical issues and provide a clear basis for distinguishing between those alternatives and for selecting a preferred alternative. Through this notice, NMFS is notifying the public that an SEIS and decision-making process for this proposed action has been initiated so that interested or affected people may participate and contribute to the final decision.

NMFS is seeking written public comments on the scope of issues, including potential impacts, and alternatives that should be considered in revising the Steller sea lion protection measures. Written comments will be accepted at the address above (see ADDRESSES). Written comments should be as specific as possible to be the most helpful. Written comments received during the scoping process, including the names and addresses of those submitting them, will be considered part of the public record on this proposal and will be available for public inspection.

The public is invited to participate in the SSLMC meetings and Council meetings where the latest scientific information regarding Steller sea lions and fisheries interactions are being reviewed and alternative protection measures are being developed and evaluated. Future Council and SSLMC meetings will be noticed in the Federal Register and on the website at http://www.fakr.noaa.gov/. Additional information regarding regulatory, ESA, and NEPA activities for Steller sea lions is available at the website at http://stellersealions.noaa.gov. Please visit this website for more information on this SEIS and for guidance on submitting effective public comments.

Authority: 16 U.S.C. 1801 et seq.

Dated: December 18, 2007.
James P. Burgess,
Acting Director, Office of Sustainable Fisheries, National Marine Fisheries Service.

[FR Doc. E7-24951 Filed 12-21-07; 8:45 am]

BILLING CODE 3510-22-S